FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 7, 2016.

A. Federal Reserve Bank of Cleveland (Nadine Wallman, Vice President) 1455 East Sixth Street, Cleveland, Ohio 44101-2566:

1. Henry H. Deible, individually and by the Deible Family, as a group, consisting of Henry H. Deible; Northern Horizons, LLC; Mary M. Deible; Eugene E. Deible III; Mildred O'Bryon; James E. O'Bryon; and William P. Cebulskie, all of Reynoldsville, Pennsylvania; Henry H. Deible II, Fall Creek, Pennsylvania; Patricia E. Beach; Donald Beach, Landing, New Jersey; Timothy Beach, Bridgeport, Connecticut; Christopher Beach, Brooklyn, New York; and Lynne E. Cebulskie, Furnace, Pennsylvania; to retain voting shares of Community First Bancorp, Inc., and thereby indirectly retain voting shares of Community First Bank, both in Reynoldsville, Pennsylvania.

B. Federal Reserve Bank of Chicago (Colette A. Fried, Assistant Vice President) 230 South LaSalle Street, Chicago, Illinois 60690-1414:

1. Walter F. Healy, Oak Park, Illinois; to acquire voting shares of Oak Park River Forest Bankshares, Inc., and thereby indirectly acquire voting shares of Community Bank Oak Park River Forest, both in Oak Park, Illinois.

Board of Governors of the Federal Reserve System, December 18, 2015.
Michael J. Lewandowski,
Associate Secretary of the Board.

[FR Doc. 2015-32261 Filed 12-22-15; 8:45 am]

BILLING CODE 6210-01-P